DEPARTMENT OF ENERGY

Federal Energy Regulatory Commission

[Docket No. IC01-2A-001 FERC Form No. 2-A]

Information Collection Submitted for Review and Request for Comments

February 4, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. No. 104-13). Any interested person may file comments on the collection of information directly with OMB and should address a copy of those comments to the Commission as explained below. The Commission received comments from a single entity who supported the continued use of this information collection. These comments were in response to an earlier Federal Register notice of October 2, 2001 (66 FR.50178). The Commission has acknowledged these comments in its submission to OMB.

DATES: Comments regarding this collection of information are best assured of having their full effect if received within 30 days of this notification.

ADDRESSES: Address comments to Office of Management and Budget, Office of Information and Regulatory Affairs, Attention: Federal Energy Regulatory Commission, Desk Officer, 725 17th Street, NW Washington, D.C. 20503. The Desk Officer may also be reached at (202)395-7318. A copy of the comments should also be sent to Federal Energy Regulatory Commission, Office of the Chief Information Officer, Attention: Mr. Michael Miller, 888 First Street NE., Washington, DC 20426.

FOR FURTHER INFORMATION CONTACT: Mr. Miller may be reached by telephone at (202)208-1415, by fax at (202)208-2425, and by e-mail at mike.miller@ferc.gov.

SUPPLEMENTARY INFORMATION:

Description

The energy information collection submitted to OMB for review contains:

1. Collection of Information: FERC Form 2-A “Annual Report for Nonmajor Natural Gas Companies”.

2. Sponsor: Federal Energy Regulatory Commission.

3. Control No.: OMB No. 1902-0030. The Commission is now requesting that OMB approve a three-year extension of the current expiration date, without any changes to the existing collection. There is an decrease in the reporting burden due to an adjustment in the number of entities who are now subject to the Commission's jurisdiction and as a result must submit this annual report. In addition, the availability of Form 2-A submission software for filers for the 2001 filing year, will the Commission believes, reduce the burden as respondents benefit from user support at the Commission and from filing the FERC Form 2-A electronically through the Commission's gateway on its web site. This is a mandatory information collection requirement.

4. Necessity of Collection of Information: Submission of the information is necessary to enable the Commission to carry out its responsibilities in implementing the provisions of the Natural Gas Act(NGA). Under the NGA the Commission may prescribe a system of accounts for jurisdictional companies, and after notice and hearing, may determine the accounts in which particular outlays and receipts will be entered, charged or credited. The FERC Form 2-A is designed to collect financial information from jurisdictional nonmajor natural gas companies. A“nonmajor” natural gas company is one that has combined gas sales for resale and has gas transported or stored for a fee that exceeds 200,000 Dth but which is less than 50 million Dth, in each of the three previous calendar years. Under the Form 2-A, the Commission investigates, collects and records data, and prescribes rules ad regulations concerning accounts, records and memoranda as necessary to administer the NGA.

Respondent Description: The respondent universe currently comprises on average, 53 companies subject to the Commission's jurisdiction.

6. Estimated Burden: 1,590 total burden hours, 53 respondents, 1 response annually, 30 hours per response (average).

7. Estimated Cost Burden to Respondents: 1,590 hours ÷ 2,080 hours per year × $117,041 per year = $ 89,469 average cost per respondent = $1,688.

Statutory Authority: Sections 10 and 16 of the Natural Gas Act (NGA), 15 U.S.C. 717i-717o.

Magalie R. Salas,
Secretary.

[FR Doc. 02-3206 Filed 2-8-02; 8:45 am]

BILLING CODE 6717-01-P